DEPARTMENT OF COMMERCE

National Oceanic and Atmospheric Administration

[RTID 0648-XE636]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one day in-person meeting of its Ad Hoc Charter For-hire Data Collection Advisory Panel.

DATES: The meeting will convene on Monday, February 24, 2025, 8:30 a.m.-5 p.m., EST.

ADDRESSES: The meeting will be held in-person at the Gulf Council office. Please visit the Gulf Council website at www.gulfcouncil.org for meeting materials.

Council address: Gulf of Mexico Fishery Management Council, 4107 W. Spruce Street, Suite 200, Tampa, FL 33607; telephone: (813) 348-1630.

FOR FURTHER INFORMATION CONTACT: Dr. Lisa Hollensead, Fishery Biologist, Gulf of Mexico Fishery Management Council; telephone: (813) 348-1630; lisa.hollensead@gulfcouncil.org.

SUPPLEMENTARY INFORMATION:

Monday, February 24, 2025, 8:30 a.m.-5 p.m., EST

The meeting will begin with introductions, approval of the January 2024 Meeting summary, adoption of agenda and review of the scope of work.

The committee will review council discussion and amendment development, discuss Program Validation Methods, Economic Data Collection, and review the draft For-hire Data Collection Document including presentations, documents and Advisory Panel (AP) recommendations. The AP will discuss outreach approaches to roll out the new charter for-hire data collection program, and receive public comments, if any.

—Meeting Adjourns

The Agenda is subject to change, and the latest version along with other meeting materials will be posted on www.gulfcouncil.org.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: January 28, 2025.
Rey Israel Marquez,
Acting Deputy Director, Office of Sustainable Fisheries, National Marine Fisheries Service.

[FR Doc. 2025-02028 Filed 1-30-25; 8:45 am]

BILLING CODE 3510-22-P